FEDERAL DEPOSIT INSURANCE CORPORATION

Agency Information Collection Activities: Submission for OMB Review; Comment Request; 3064-0072

AGENCY: Federal Deposit Insurance Corporation (FDIC).

ACTION: Notice of information collections to be submitted to OMB for review and approval under the Paperwork Reduction Act of 1995.

SUMMARY: In accordance with requirements of the Paperwork Reduction Act of 1995 (44 U.S.C. 3501 et seq.), the FDIC hereby gives notice that it is submitting to the Office of Management and Budget (OMB) a request for OMB review and approval of the information collection system described below.

DATES: Comments must be submitted on or before August 4, 2005.

ADDRESSES: Interested parties are invited to submit written comments. All comments should refer to “Acquisition Services Information Requirements, 3064-0072.” Comments may be submitted by any of the following methods:

• http://www.FDIC.gov/regulations/laws/federal/propose.html.

• E-mail: comments@fdic.gov. Include “Acquisition Services Information Requirements, 3064-0072.” in the subject line of the message.

• Mail: Gary A. Kuiper (202) 942-3824), Counsel, Federal Deposit Insurance Corporation, PA1730-3000, 550 17th Street, NW., Washington, DC 20429.

• Hand Delivery: Comments may be hand-delivered to the guard station at the rear of the 550 17th Street Building (located on F Street), on business days between 7 a.m. and 5 p.m.

A copy of the comments may also be submitted to the OMB desk officer for the FDIC: Mark Menchik, Office of Information and Regulatory Affairs, Office of Management and Budget, New Executive Office Building, Room 10235, Washington, DC 20503.

FOR FURTHER INFORMATION CONTACT: Gary A. Kuiper, at the address identified above.

SUPPLEMENTARY INFORMATION:

Proposal To Renew the Following Currently Approved Collection of Information

Title: Acquisition Services Information Requirements.

OMB Number: 3064-0072. This OMB Number covers the following forms:

Forms Currently in Use:

FDIC Background Investigation Questionnaire for Contractor Personnel Management Officials, Form 1600/04 (1-03) [Added questions regarding other names used, race, height, weight, eye color, hair color, contract number and oversight manager]

FDIC Contractor Representation and Certifications, Form 3700/04A (8-02) [changed format so form can be filled out online]

FDIC Background Investigation Questionnaire for Contractor, Form 1600/07 (8-02) [no changes]

FDIC Notice and Authorization Pertaining to Consumer Reports, Form 1600/10 (10-02) [added statement that authorization is valid for one year or upon separation of employment/services from the FDIC]

FDIC Integrity and Fitness Representations and Certifications, Form 3700/12(11-03) [In the instructions for the form, “Definitions” was replaced with “Unique Terms'and the explanations of “conflict of interest” and “ownership or control” were simplified; also, examples were given of “pattern or practice of defalcation regarding obligations,” and of “conflicts of interest.”]

FDIC Leasing Representations and Certifications Form 3700/44 (10-01) [no changes]

Discontinued Forms in This Collection:

FDIC Contractor Application, Form 3700/13 (5-02) Contractor Past Performance RFP Reference Check Questionnaire, 3700/29(10-01) Contractor Application Revision Request, Form 3700/33 (8-98)

Frequency of Response: On occasion.

Affected Public: Any contractors who wish to do business, have done business, or are currently under contract with the FDIC.

Estimated Number of Respondents and Burden Hours:

FDIC Document | Hours per unit | No. of respondents | Burden hours
Background Investigation Questionnaire Management (1600/04) | .33 | 2,330 | 769
Background Investigation Questionnaire Contractors (1600/10) | .50 | 664 | 332
Notice of Authorization (1600/10) | .05 | 1,172 | 59
Contractor Representation and Certifications (3700/04A) | .50 | 2,312 | 1,156
Integrity and Fitness Representations and Certifications (3700/12) | .33 | 2,312 | 763
Leasing Representations and Certifications (3700/44) | 1.0 | 20 | 20
Total |  | 8,810 | 3099
Discontinued Forms:
Contractor Application (3700/13) | .58 | 631 | 366
Contractor Past Performance RPF Reference Check Questionnaire (3700/29) | .75 | 2,295 | 1,721
Contractor Application Revision Request (3700/33) | .25 | 810 | 203
Total Reduction in Burden |  | 3,736 | 2,290

Previous Estimated Total Annual Reporting Burden Hours: 5,389 hours.

New Estimated Total Annual Reporting Burden Hours: 3,099 hours.

Net Reduction in Estimated Burden Hours: 2,290 hours.

General Description of Collection: The collection involves the submission of information on various forms by contractors who wish to do business, have done business, or are currently under contract with the FDIC. The information is used to:

• Enter contractors on the FDIC's nationwide contractor database, the National Contractor System (NCS);

• Ensure compliance with established contractor ethics regulations (12 CFR part 366);

• Obtain information on a contractor's past performance for proposal evaluation purposes;

• Review a potential lessor's fitness and integrity prior to entering into a lease transaction;

• Provide notice and authorization for obtaining consumer reports for employment purposes or performance under a contract; and

• Document contractor change requests.

Request for Comment

Comments are invited on: (a) Whether these collections of information are necessary for the proper performance of the FDIC's functions, including whether the information has practical utility; (b) the accuracy of the estimate of the burden of the information collection, including the validity of the methodology and assumptions used; (c) ways to enhance the quality, utility, and clarity of the information to be collected; and (d) ways to minimize the burden of the information collection on respondents, including through the use of automated collection techniques or other forms of information technology. All comments will become a matter of public record.

Dated in Washington, DC, this 28th day of June, 2005.
Federal Deposit Insurance Corporation.
Valerie J. Best,
Assistant Executive Secretary.

[FR Doc. 05-13116 Filed 7-1-05; 8:45 am]

BILLING CODE 6714-01-P